DEPARTMENT OF HEALTH AND HUMAN SERVICES

Centers for Disease Control and Prevention

Disease, Disability, and Injury Prevention and Control Special Emphasis Panel (SEP)—RFA-PS-22-001, Implementing Pre-Exposure Prophylaxis for HIV Prevention in Syringe Service Programs; RFA-PS-22-002, Implementation Research on Telehealth Strategies To Support Retention in Care and Treatment Among Antiretroviral Therapy (ART) Patients and Pre-Exposure Prophylaxis (PrEP) Clients and RFA-PS-22-004, Understanding HIV/STD Risk and Enhancing PrEP Implementation Messaging in a Diverse Community-Based Sample of Gay, Bisexual, and Other Men Who Have Sex With Men in a Transformational Era; Amended Notice of Meeting

Notice is hereby given of a change in the meeting of the Disease, Disability, and Injury Prevention and Control Special Emphasis Panel (SEP) RFA-PS-22-001, Implementing Pre-exposure Prophylaxis for HIV Prevention in Syringe Service Programs; RFA-PS-22-002, Implementation Research on Telehealth Strategies to support Retention in Care and Treatment among Antiretroviral Therapy (ART) Patients and Pre-exposure Prophylaxis (PrEP) Clients; and RFA-PS-22-004, Understanding HIV/STD Risk and Enhancing PrEP Implementation Messaging in a Diverse Community-Based Sample of Gay, Bisexual, and Other Men Who Have Sex with Men in a Transformational Era.

Date: March 30, 2022.

Time: 10:00 a.m.-5:00 p.m. (EDT).

Place: Teleconference.

The meeting was published in the Federal Register on February 4, 2022, Volume 87, Number 24, page 6562-6563.

The meeting is being amended to remove RFA-PS-22-002, Implementation Research on Telehealth Strategies to Support Retention in Care and Treatment among Antiretroviral Therapy (ART) Patients and Pre-exposure Prophylaxis (PrEP) Clients and should read as follows:

RFA-PS-22-001, Implementing Pre-exposure Prophylaxis for HIV Prevention in Syringe Service Programs and RFA-PS-22-004, Understanding HIV/STD Risk and Enhancing PrEP Implementation Messaging in a Diverse Community-Based Sample of Gay, Bisexual, and Other Men Who Have Sex with Men in a Transformational Era.

The meeting is closed to the public.

For Further Information Contact: Gregory Anderson, M.S., M.P.H., Scientific Review Officer, National Center for HIV, Viral Hepatitis, STD, and TB Prevention, CDC, 1600 Clifton Road NE, Mailstop US8-1, Atlanta, Georgia 30329, Telephone: (404) 718-8833, Email: GAnderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-03555 Filed 2-17-22; 8:45 am]

BILLING CODE 4163-18-P